DEPARTMENT OF THE INTERIOR

Bureau of Land Management

[ES-032-1430-EU; WIES-051103]

Realty Action: Direct Sale of Public Lands, Wisconsin

AGENCY: Bureau of Land Management, Interior.

ACTION: Notice of Realty Action; direct sale of public lands in Milwaukee County, Wisconsin.

SUMMARY: The Bureau of Land Management has determined that the below listed public lands located in Milwaukee County, Wisconsin are suitable for sale utilizing direct noncompetitive procedures, at not less than the fair market value. In accordance with section 7 of the Act of June 28, 1934, as amended, 43 U.S.C. 315f and EO 6964, the described lands are hereby classified as suitable for disposal under the authority of section 203 of the Act of October 21, 1976; 43 U.S.C. 1713.

Fourth Principle Meridian

T. 28 N., R. 39 W.,

Tract 37 and Tract 38

The above lands aggregate 3.97 acres.

FOR FURTHER INFORMATION CONTACT: Paul J. Salvatore, Realty Specialist, Bureau of Land Management, Milwaukee Field Office, 310 West Wisconsin Avenue, Suite 450, Milwaukee, Wisconsin 53203, (414) 297-4413.

SUPPLEMENTARY INFORMATION: The Bureau of Land Management proposes to sell the surface estate of the above described lands to the National Audubon Society—Schlitz Audubon Center, by direct sale, at fair market value. The disposal of this land will resolve an inadvertent unauthorized use on public land. It has been determined that the subject lands contain no mineral values; therefore, mineral interests may be conveyed simultaneously.

The proposed sale is consistent with the Wisconsin Resource Management Plan Amendment and would serve important public objectives which could not be achieved by other means. The lands contain no other known public values. The planning document and environmental assessment covering the proposed sale are available for review at the Bureau of Land Management, Milwaukee Field Office, Milwaukee, Wisconsin.

Upon publication of this notice in the Federal Register, the above described lands will be segregated from all forms of appropriation under the public land laws, including the general mining laws, except for leasing under the mineral leasing laws.

For a period of 45 days after issuance of this notice, interested parties may submit comments to the Field Manager, Milwaukee Field Office, Bureau of Land Management, P.O. Box 631, Milwaukee, Wisconsin 53201. Any adverse comments will be evaluated by the State Director who may sustain, vacate, or modify this realty action. In the absence of any objections, this proposed realty action will become final.

Dated: July 2, 2002.
James W. Dryden,
Milwaukee Field Manager.

[FR Doc. 02-26250 Filed 10-15-02; 8:45 am]

BILLING CODE 4310-PN-P